DEPARTMENT OF THE INTERIOR

Bureau of Land Management

[CO-200-1220-PA]

Notice of Intent To Prepare the Gold Belt Travel Management Plan and Amend the Royal Gorge Resource Management Plan

AGENCY: Bureau of Land Management, Interior.

ACTION: Notice of intent to prepare an amendment to the Royal Gorge Resource Management Plan, and prepare an Environmental Assessment (EA).

SUMMARY: The Bureau of Land Management (BLM) intends to initiate a comprehensive planning effort to address OHV (Off-Highway Vehicle) travel and other related road and trail issues. The plan, entitled the Gold Belt Travel Management Plan (TMP), will focus specifically on those BLM Public Lands that lay along and near the Gold Belt Tour National Scenic and Historic Byway, and involves Public Lands located throughout portions of Fremont, Teller, Park, and El Paso Counties in the State of Colorado. The TMP will amend the Royal Gorge Resource Management Plan (RMP). The TMP and RMP amendment implement decisions made in the Royal Gorge RMP to limit OHV use to designated roads and trails, and to develop local travel management plans with public participation. The amendment process will be used to establish a system of designated roads and trails that meet the needs of the public and protects the cultural and natural resources of the Public Lands. The amendment and associated Environmental Assessment (EA) will be prepared pursuant to the BLM planning regulations in 43 CFR 1600. The EA will analyze and compare the impacts of any changes in OHV designation and management with the continuation of current management, and other alternatives that may be identified. The TMP is being prepared through coordination with other federal, state and local agencies, and affected public land users.

DATES: Interested parties may submit written comments to the Field Manager at the address listed below. Comments will be accepted on or before July 18, 2002.

ADDRESSES: If you wish to comment, request additional information or request to be put on the mailing list, you may do so by any of several methods. You may mail or hand deliver your comments or requests to: Field Manager, Bureau of Land Management, Royal Gorge Field Office, 3170 East Main Street, Canon City, CO 81212; or you may telephone Dave Walker, Team Leader, at 719-269-8500.

Comments, including names and addresses of respondents, will be available for public review at the BLM office listed above during regular business hours. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

FOR FURTHER INFORMATION CONTACT: Roy L. Masinton, Field Manager, or Dave Walker, Team Leader, at the Royal Gorge Field Office address listed above or by calling (719) 269-8500.

SUPPLEMENTARY INFORMATION: The use of roads and trails for motorized and non-motorized recreation activities is an important use of BLM Public Lands. In response to recommendations made by the Front Range Resource Advisory Council, the BLM proposes developing a travel management plan and establishing OHV travel designations to restrict motorized travel to designated roads and trails. BLM has identified general issues anticipated for this planning effort. The preliminary issues include: (1) Impacts to public land users and adjacent private landowners; (2) impacts to wildlife habitat, and (3) impacts to water quality; vegetation, including riparian and wetland areas; and soils. These issues, along with others that may be identified through public participation, will be considered in the planning process.

The planning area involves approximately 140,000 acres of public land located in southwestern El Paso County, northeastern Fremont County, southeastern Park County, and southern Teller County, CO. The Gold Belt Travel Management Plan is being prepared by an interdisciplinary team, the composition of which will be determined by the issues raised during the planning process. The proposed plan amendment is scheduled for completion in July 2003.

Notification will be made to the Governor of Colorado, El Paso, Fremont, Park and Teller County Commissioners, adjacent landowners, and potentially affected members of the public. A public comment period will be established upon completion of the EA on the Gold Belt Travel Management Plan. The time frame for the public comment period will be announced in the local media.

Roy L. Masinton,
Field Manager.

[FR Doc. 02-15311 Filed 6-17-02; 8:45 am]

BILLING CODE 4310-JB-P